DEPARTMENT OF HEALTH AND HUMAN SERVICES

Substance Abuse and Mental Health Services Administration

Fiscal Year (FY) 2001 Funding Opportunities

AGENCY: Substance Abuse and Mental Health Services Administration (SAMHSA), HHS.

ACTION: Notice of funding availability.

SUMMARY: The Substance Abuse and Mental Health Services Administration (SAMHSA) Center for Mental Health Services (CMHS) announces the availability of FY 2001 funds for grants for the following activity. This notice is not a complete description of the activity; potential applicants must obtain a copy of the Guidance for Applicants (GFA), including Part I, Grants for Statewide Family Networks, and Part II, General Policies and Procedures Applicable to all SAMHSA Applications for Discretionary Grants and Cooperative Agreements, before preparing and submitting an application.

Activity | Application deadline | Est. funds FY 2001 | Est. number of awards | Project period
Grants for Statewide Family Networks | May 21, 2001 | $2.9 million | 50 | 3 years.

The actual amount available for the award may vary, depending on unanticipated program requirements and the number and quality of applications received. FY 2001 funds for the activity discussed in this announcement were appropriated by the Congress under Public Law 106-310. SAMHSA's policies and procedures for peer review and Advisory Council review of grant and cooperative agreement application were published in the Federal Register (Vol. 58, No. 126, page 35962) on July 2, 1993.

General Instructions: Applicants must use application form PHS 5161-1 (Rev. 7/00). The application kit contains the two-part application materials (complete programmatic guidance and instructions for preparing and submitting applications), the PHS 5161-1 which includes Standard Form 424 (Face Page), and other documentation and forms. Application kits may be obtained from: National Mental Health Services Knowledge Exchange Network (KEN), P.O. Box 42490, Washington, DC 20015, Telephone: 1-800-789-2647.

The PHS 5161-1 application form and the full text of the activity are also available electronically via SAMHSA's World Wide Web Home Page: http://www.samhsa.gov.

When requesting an application kit, the applicant must specify the particular activity for which detailed information is desired. All information necessary to apply, including where to submit applications and application deadline instructions, are included in the application kit.

Purpose: The Substance Abuse and Mental Health Services Administration (SAMHSA) Center for Mental Health Services (CMHS) announces the availability of Fiscal Year 2001 funds for implementing Grants for Statewide Family Networks. Projects will assist family members around the country to work with policy makers and service providers to improve service access and quality of services for children and adolescents with serious emotional disturbances and their families. When effective, groups of such individuals serve as catalysts in reforming service systems for this population. The Statewide Family Network Grant Program is designed to strengthen coalitions among family members, and between family members and policy makers and service providers; recognizing that family members are the best and most effect change agents.

Eligibility: Nonprofit private entities, including currently funded Statewide Family Network grantees, which meet the following requirements are eligible to apply:

1. Nonprofit private entities that have a board of directors comprised of no less than 51 percent family members whose children are currently receiving service and are age 18 and under or age 21 and under if served with an Individual Education Plan and have a serious emotional, behavioral or mental disorder.

2. The entities' organizational mission and scope of work must have a statewide scope and focus solely on families who have children, youth and adolescents age 18 and under or 21 and under if served by an Individual Education Plan; with a serious emotional, behavioral, or mental disorder.

Statewide Family Networks located in the 50 States, the District of Columbia and the federally recognized territories are eligible to apply. Inasmuch as there appear to be no nonprofit private family organizations representing a specific tribe, any nonprofit private tribal family organization can apply on behalf of tribal families overall.

Availability of Funds: The program goal is to fund one award per State. Approximately $2.9 million will be available for approximately 50 awards. Individual awards should be no more than $60,000 in total cost (direct and indirect). Actual funding levels will depend upon the availability of funds. Additional funds will be available for 10 grantees for up to $10,000 for each award; to include provisions for youth involvement in the network. Youth involvement funds will be included in awards to successful applicants, not awarded separately.

Period of Support: Support may be requested for a period of up to three years. Annual continuation awards for years 2 and 3 will be made subject to continued availability of funds and progress achieved.

Criteria for Review and Funding

General Review Criteria: Competing applications requesting funding under this activity will be reviewed for technical merit in accordance with established PHS/SAMHSA peer review procedures. Review criteria that will be used by the peer review groups are specified in the application guidance material.

Award Criteria for Scored Applications: Applications will be considered for funding on the basis of their overall technical merit as determined through the peer review group and the appropriate National Advisory Council review process. Availability of funds will also be an award criteria. Additional award criteria specific to the programmatic activity may be included in the application guidance materials.

Catalog of Federal Domestic Assistance Number: 93.230.

Program Contact: For questions concerning program issues, contact: Elizabeth Sweet, M.Ed. and Gary DeCarolis, M.Ed., Child, Adolescent, and Family Branch, Center for Mental Health Services, Substance Abuse and Mental Health Services Administration, 5600 Fishers Lane, Room 11C-16, Rockville, MD 20857, (301) 443-1333, E-Mail: esweet@samhsa.gov, gdecarol@samhsa.gov.

Questions on grants management issues should be directed to: Steve Hudak, Division of Grants Management, OPS, Substance Abuse and Mental Health Services Administration, 5600 Fishers Lane, Room 13-103, Rockville, MD 20857, (301) 443-4456, E-Mail: shudak@samhsa.gov.

Public Health Grants Management System Reporting Requirements: The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2001 activity is subject to the Public Health System Reporting Requirements.

PHS Non-use of Tobacco Policy Statement: The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372: Applications submitted in response to the FY 2001 activity listed above are subject to the intergovernmental review requirements of Executive Order 12372, as implemented through DHHS regulations at 45 CFR Part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89, 5600 Fishers Lane, Rockville, Maryland 20857

The due date for State review process recommendations is no later than 60 days after the specified deadline date for the receipt of applications. SAMHSA does not guarantee to accommodate or explain SPOC comments that are received after the 60-day cut-off.

Dated: March 5, 2001.
Richard Kopanda,
Executive Officer, Substance Abuse and Mental Health Services Administration.

[FR Doc. 01-5955 Filed 3-9-01; 8:45 am]

BILLING CODE 4162-20-P